EXPORT-IMPORT BANK OF THE UNITED STATES

[Public Notice 2012-0134]

Agency Information Collection Activities: Final Collection; Comment Request

AGENCY: Export-Import Bank of the U.S.

ACTION: Submission for OMB review and comments request.

Form Title: EIB 09-01 Payment Default Report OMB 3048-0028.

SUMMARY: The Export-Import Bank of the United States (Ex-Im Bank), as a part of its continuing effort to reduce paperwork and respondent burden, invites the general public and other Federal Agencies to comment on the proposed information collection, as required by the Paperwork Reduction Act of 1995.

This collection allows insured/guaranteed parties and insurance brokers to report overdue payments from the borrower and/or guarantor. Ex-Im Bank customers will submit this form electronically through Ex-Im Online, replacing paper reporting. Ex-Im Bank has simplified reporting of payment defaults in this form by including checkboxes and providing for many fields to be self-populated. Ex-Im Bank provides insurance, loads, and guarantees for the financing of exports of goods and services.

DATES: Comments should be received on or before August 13, 2012 to be assured of consideration.

ADDRESSES: Direct all comments to Mauricio Paredes, Export-Import Bank of the United States, 811 Vermont Ave. NW., Washington, DC 20571.

SUPPLEMENTARY INFORMATION: Titles and Form Number: EIB 09-01 Payment Default Report.

OMB Number: 3048-0028.

Type of Review: Regular.

Need and Use: the information requested enables insured/guaranteed parties and insurance brokers to report overdue payments from the borrower and/or guarantor.

Affected Public: Insured/guaranteed parties and brokers.

Annual Number of Respondents: 200.

Estimated Time per Respondent: 15 minutes.

Government Review Time: 50 hours.

Cost to the Government: $2,000.

Sharon A. Whitt,
Agency Clearance Officer.

[FR Doc. 2012-14551 Filed 6-13-12; 8:45 am]

BILLING CODE 6690-01-P